DEPARTMENT OF TRANSPORTATION

Coast Guard

33 CFR Part 117

[CGD07-01-005]

Drawbridge Operation Regulations; Sanibel Causeway Bridge

AGENCY: Coast Guard, DOT.

ACTION: Notice of temporary deviation from regulations.

SUMMARY: The Commander, Seventh Coast Guard District, has approved a temporary deviation from the regulations governing the operation of the Sanibel Causeway Bridge (SR 869) across San Carlos Bay, mile 151, Punta Rassa, Florida. This deviation will change the drawbridge operation schedule to determine whether a permanent change to the schedule is needed. This deviation extends the scheduled bridge openings each day by four hours and also changes the period of the openings from every 15 minutes to every 30 minutes, from March 1, 2001 to April 30, 2001.

EFFECTIVE DATE: This deviation is effective from March 1, 2001, to April 30, 2001. Comments must be received by May 30, 2001.

ADDRESSES: You may mail comments and related material to Commander (obr), Seventh Coast Guard Guard District, 909 SE. 1st Avenue, Miami, FL 33131. Comments and material received from the public, as well as documents indicated in this preamble as being available in the docket, will become part of this docket and will be available for inspection or copying at Commander (obr), Seventh Coast Guard District, 909 SE., 1st Avenue, Miami, FL 33131 between 7:30 a.m. and 4 p.m., Monday through Friday, except Federal Holidays.

FOR FURTHER INFORMATION CONTACT: Mr. Barry Dragon, Chief, Operations Section, Seventh Coast Guard District, Bridge Section at (305) 415-6743.

SUPPLEMENTARY INFORMATION: The Sanibel Causeway Bridge across San Carlos Bay at Punta Rassa, is a double leaf bridge with a vertical clearance of 26 feet above mean high water (MHW) measured at the fenders in the closed position with a horizontal clearance of 90 feet. The current operating regulation in 33 FR 117.317(j) requires the bridge to open on signal; except that from 11 a.m. to 6 p.m., the draw need open only on the hour, quarter hour, half hour, and three quarter hour. From 10 p.m. to 6 p.m. the draw will open on signal if at least a five-minute advance notice is given.

On November 28, 2000, the drawbridge owner requested a deviation from the current operating regulations to allow the owner to conduct a study of the bridge openings and vehicular traffic patterns which are exacerbated during the winter tourist season. The temporary schedule will require the bridge to open on signal; except that from 7 a.m. to 6 p.m., the draw need open only on the hour and half-hour. The five-minute notice from 10 p.m. to 6 a.m. will remain in effect.

The District Commander has granted a temporary deviation from the operating requirements listed in 33 CFR 117.317(j) for the purpose of conducting this study. Under this deviation, the Sanibel Causeway Bridge need only open on the hour and half hour, 7 a.m. to 6 p.m., from March 1, 2001 until April 30, 2001. From 10 p.m. to 6 a.m. the draw will open on signal if at least a five-minute advance notice is given. The deviation is effective from March 1, 2001 to April 30, 2001.

Request for Comments

We encourage you to participate in this evaluation of the test schedule by submitting comments and related material. If you do so, please include your name and address, identify the docket number for this deviation [CGD07-01-005], indicate the specific section of this document to which each comment applies, and give the reason for each comment. Please submit all comments and related material in an unbound format, no larger than 8½ by 11 inches, suitable for copying. If you would like to know if they reached us, please enclose a stamped, self-addressed postcard or envelope. We will consider all comments and material received during the comment period.

Dated: February 1, 2001.
Greg E. Shapley,
Chief, Bridge Administration, Seventh Coast Guard District.

[FR Doc. 01-3373 Filed 2-8-01; 8:45 am]

BILLING CODE 4910-15-M